DEPARTMENT OF TRANSPORTATION

Federal Aviation Administration

[Summary Notice No. PE-2001-44]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain petitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW., Washington, DC 20591.

This notice is published pursuant to 14 CFR 11.85 and 11.91.

Issued in Washington, DC, on
Donald P. Byrne,
Assistant Chief Counsel for Regulations.

Dispositions of Petitions

Docket No.: FAA-2001-9437.

Petitioner: Quest Aviation, Inc.

Section of 14 CFR Affected: 14 CFR 135.143(c)(2).

Description of Relief Sought/Disposition: To permit QAI to operate certain aircraft under part 135 without a TSO-C112 (Mode S) transponder installed in the aircraft.

Grant, 05/24/2001, Exemption No. 7531.

Docket No.: FAA-2001-9282 (previously Docket No. 25210).

Petitioner: Air Transport Association of America.

Section of 14 CFR Affected: 14 CFR 63.39(b)(1) and (2), and 121.425(a)(2)(i) and (ii).

Description of Relief Sought/Disposition: To permit the extension for ATA-member airlines and other qualifying part 121 certificate holders conducting part 121-approved flight engineer training to meet the certification requirements, or the effective date of the rulemaking to amend §§ 63.39(b)(1) and (2), and 121.425(a)(2)(ii), whichever occurs first.

Grant, 05/24/2001, Exemption No. 4901G.

Docket No.: 30169.

Petitioner: Capital City Air Carrier, Inc.

Section of 14 CFR Affected: 14 CFR 61.51(f)(2).

Description of Relief Sought/Disposition: To permit CCAC pilots to log second-in-command flight time for cargo flights in certain multiengine aircraft when more than one pilot is not required by either the aircraft type certificate or the regulations under which the flight is conducted.

Denial, 05/25/2001, Exemption No. 7537.

Docket No.: FAA-2001-9353 (previously Docket No. 25052).

Petitioner: Promech, Inc.

Section of 14 CFR Affected: 14 CFR 135.203(a)(1).

Description of Relief Sought/Disposition: To permit certain certificate holders conducting operations under part 135 to operate seaplanes inside the Ketchikan, Alaska, Class E airspace under Special Visual Flight Rules below 500 feet above the surface.

Grant, 05/24/2001, Exemption No. 4760I.

Docket No.: FAA-2001-8935.

Petitioner: Emery Worldwide Airlines, Inc.

Section of 14 CFR Affected: 14 CFR 121.623(a) and (d), 121.643, and 121.645(e).

Description of Relief Sought/Disposition: To permit EWA to conduct its supplemental operations within the 48 contiguous United States and the District of Columbia using the flight regulations for alternate airports as required by 121.619 and fuel reserve requirements as required by § 121.639 that are applicable to domestic operations.

Grant, 05/29/2001, Exemption No. 7536.

Docket No.: FAA-2000-8255.

Petitioner: Stallion 51 Corporation.

Section of 14 CFR Affected: 14 CFR 91.319(a)(1) and (2).

Description of Relief Sought/Disposition: To permit Stallion 51 to receive compensation for the use of its L-39C for initial and recurrent training of applicants for an LOA in the L-39C; instrument and formation flight training to remove restrictions from current LOAs, or to satisfy the initial instrument training requirement for original issuance of an LOA; and upset and unusual attitude recovery training for holders of type ratings or LOAs of turbojet aircraft.

Partial Grant, 05/24/2001, Exemption No. 7538.

Docket No.: FAA-2000-8527.

Petitioner: Pan Am International Flight Academy, Inc.

Section of 14 CFR Affected: 14 CFR 91.9(a) and 91.531(a)(1) and (2).

Description of Relief Sought/Disposition: To permit Pan Am and operators of Cessna Citation Model 550, S550, 552, or 560 airplanes to operate those airplanes without a pilot who is designated as second in command.

Grant, 05/29/2001, Exemption No. 7487A.

Docket No.: FAA-2001-8944 (previously Docket No. 29481).

Petitioner: Republic Helicopters, Inc.

Section of 14 CFR Affected: 14 CFR 135.143(c)(2).

Description of Relief Sought/Disposition: To permit RHI to operate certain aircraft under part 135 without a TSO-C112 (Mode S) transponder installed in the aircraft.

Grant, 05/29/2001, Exemption No. 6912A.

Docket No.: FAA-2001-9522.

Petitioner: Eric Kindig dba EK Aviation.

Section of 14 CFR Affected: 14 CFR 135.251, 135.255, 135.353, and appendixes I and J to part 121.

Description of Relief Sought/Disposition:

To permit EKA to conduct local sightseeing flights at the Sydney, Ohio, airport air fair on June 30, 2001, and at the Urbana, Ohio, airport air fair on July 4, 2001, for compensation or hire, without complying with certain anti-drug and alcohol misuse prevention requirements of part 135.

Grant, 05/29/2001, Exemption No. 7532.

Docket No.: FAA-2001-9102 (previously Docket No. 29419).

Petitioner: General Electric Engine Services, Inc., Aviation Component Services Center.

Section of 14 CFR Affected: 14 CFR 43.9(a)(4), 43.11(a)(3), appendix B to part 43, and 145.57(a).

Description of Relief Sought/Disposition: To permit ACSC to use computer-generated electronic signatures to satisfy approval for return-to-service signature requirements.

Grant, 05/29/2001, Exemption No. 6926A.

Docket No.: FAA-2001-9099.

Petitioner: Palmyra Flying Club.

Section of 14 CFR Affected: 14 CFR 135.251, 135.255, 135.353, and appendixes I and J to part 121.

Description of Relief Sought/Disposition: To permit PFC to conduct local sightseeing flights at Palmyra Airport for the Fly-In Breakfast during June 2001, for compensation or hire, without complying with certain anti-drug and alcohol misuse prevention requirements of part 135.

Grant, 05/29/2001, Exemption No. 7534.

Docket No.: Faa-2001-9436.

Petitioner: First Wing Management, LLC.

Section of 14 CFR Affected: 14 CFR 135.143(c)(2).

Description of Relief Sought/Disposition: To permit First Wing to operate certain aircraft under part 135 without a TSO-C112 (Mode S) transponder installed in the aircraft.

Grant, 05/29/2001, Exemption No. 7533.

Docket No.: FAA-2001-9283.

Petitioner: Atlantic Coast Airlines.

Section of 14 CFR Affected: 14 CFR 121.411, 121.413, 121.434, 121.440, and 121.441.

Description of Relief Sought/Disposition: To permit ACA ground training (initial and recurrent), flight training (initial and recurrent), pilot checks (including line checks), and operating experience for the 328Jet acquired or accomplished by each pilot or each check airman at ACJet to count for that individual and for ACA as if the individual accomplished the regulatory requirement at ACA.

Grant, 05/29/2001, Exemption No. 7539.

Docket No.: FAA-2001-8752 (previously Docket No. 28094).

Petitioner: American Trans Air.

Section of 14 CFR Affected: 14 CFR 121.433(c)(1)(iii), 121.441(a)(1) and (b)(1) and appendix F to part 121.

Description of Relief Sought/Disposition: To permit AMTA to combine recurrent flight and ground training and proficiency checks for AMTA's flight crew members in a single annual training and proficiency evaluation program.

Grant, 05/29/2001, Exemption No. 6090C.

Docket No.: FAA-2001-9690 (previously Docket No. 28830).

Petitioner: Empresa Brasileira de Aeronautica S.A.

Section of 14 CFR Affected: 14 CFR 145.47(b).

Description of Relief Sought/Disposition: To permit EMBRAER to use the calibration standards of Instituto Nacional de Metrologia, Normalização e Qualidade Industrial in lieu of the calibration standards of the U.S. National Institute of Standards and Technology to test its inspection and test equipment.

Grant, 05/29/2001, Exemption No. 6616B.

[FR Doc. 01-14911 Filed 6-12-01; 8:45 am]

BILLING CODE 4910-13-M